DEPARTMENT OF THE INTERIOR

Office of Surface Mining Reclamation and Enforcement

30 CFR Part 925

Clarification of Substituted Federal Enforcement for Parts of Missouri's Permanent Regulatory Program and Findings on the Status of Missouri's Permanent Regulatory Program; Correction

AGENCY: Office of Surface Mining Reclamation and Enforcement (OSM), Interior.

ACTION: Final rule; correction.

SUMMARY: This document contains corrections to the final rule published in the Federal Register on Thursday, April 15, 2004 (69 FR 19927). Three paragraphs were inadvertently removed from 30 CFR 925.18. This correction will restore the previously-published three paragraphs which list the minimum requirements that must be contained in Missouri's proposal to OSM to reassume full authority of Missouri's surface coal mining and reclamation program.

This rule is being made effective immediately in order to expedite the actions required of the State to resume full authority for its approved program.

EFFECTIVE DATE: May 26, 2004.

FOR FURTHER INFORMATION CONTACT: John W. Coleman, Mid-Continent Regional Coordinating Center, Office of Surface Mining, 501 Belle Street, Alton, Illinois 62002. Telephone: (618) 463-6460.

SUPPLEMENTARY INFORMATION:

Background

On August 4, 2003, OSM notified the Governor of Missouri that serious problems existed that were adversely affecting the Missouri Department of Natural Resources implementation and enforcement of the Missouri surface coal mining and reclamation program. In accordance with the provisions of 30 CFR 733.12(f), we announced our decision, effective August 22, 2003, to institute direct Federal enforcement for those portions of the Missouri program that the State could not adequately implement and enforce. With the substitution of Federal enforcement authority, we outlined a process by which Missouri could regain full authority for its program.

In the April 15, 2004, Federal Register (69 FR 19927), we further clarified our position regarding the portions of the Missouri program that we directly enforce and set forth our findings regarding the status of those portions of Missouri's program for which we required remedial actions.

Need for Correction

As published, the amendatory language in the April 15, 2004, Federal Register notice inadvertently deleted existing regulatory text. This correction will restore that regulatory text which contains important information for the State to use when it submits its proposal to regain full authority to implement its regulatory program.

List of Subjects in 30 CFR Part 925

Intergovernmental relations, Surface mining, Underground mining.

Dated: May 12, 2004.
Chad Calvert,
Acting Assistant Secretary, Land and Minerals Management.

Accordingly, 30 CFR part 925 is amended by making the correcting revisions as set forth below.

PART 925—MISSOURI

1. The authority citation for part 925 continues to read as follows:

Authority: 30 U.S.C. 1201 et seq.

2. Section 925.18 is amended by adding paragraphs (c)(1), (c)(2), and (c)(3) to read as follows:

§ 925.18 State remedial actions.

* * * * *

(c) * * *

(1) Funding. The proposal must demonstrate to the satisfaction of OSM a commitment to fully fund the Missouri program.

(2) Staffing. The proposal must demonstrate to the satisfaction of OSM a commitment to hire a sufficient number of qualified personnel to comply with all inspection and enforcement, permitting, and bonding requirements of the approved Missouri program.

(3) Adherence to approved program. The proposal must include provisions, policy statements, and other affirmative evidence sufficient to assure OSM that the MLRP will be in full compliance at all times with the provisions of the Missouri program.

* * * * *

[FR Doc. 04-11707 Filed 5-25-04; 8:45 am]

BILLING CODE 4310-05-P